DEPARTMENT OF TRANSPORTATION

Federal Railroad Administration

Petition for Waiver of Compliance

In accordance with part 211 of Title 49 Code of Federal Regulations (CFR), notice is hereby given that the Federal Railroad Administration (FRA) received a request for a waiver of compliance from certain requirements of its safety regulations. The individual petition is described below including, the party seeking relief, the regulatory provisions involved, the nature of the relief being requested, and the petitioner's arguments in favor of relief.

BNSF Railway

[Docket Number FRA-2003-15339]

In 2003, BNSF Railway (BNSF) petitioned FRA requesting a waiver of compliance from certain provisions of 49 CFR part 232, Brake System Safety Standards for Freight and Other Non-Passenger Trains and Equipment. Specifically, § 232.103(n)(3)(i), that requires “all hand brakes shall be fully applied on all locomotives in the lead consist of an unattended train.” See 68 FR 38740. FRA denied the petition without prejudice on December 3, 2003. It was stated in the denial letter that, “FRA is not inclined to grant a “blanket” waiver for the entire BNSF system. We suggest that any future request should be more narrowly focused and supported by very specific data.”

BNSF is now petitioning the FRA to reconsider the waiver by offering a more focused request that lists specific yard and terminal locations that are manned 24 hours—7 days week. BNSF claims that the reasons for seeking this relief is that injuries related to locomotive hand brakes continue to increase with no increased benefit of applying all the hand brakes to a locomotive consist. BNSF also contends that this request is in response to concerns expressed by Labor Organizations to the Transportation Group of BNSF's Safety Assurance and Compliance Program (SACP), in hopes of seeking resolution to this requirement. BNSF has listed 75 locations for FRA's consideration for exclusion from the requirements of applying hand brakes to every locomotive in a consist of an unattended train. These locations are available for review and copying on the Internet at the docket facility's Web site http://dms.dot.gov.

Interested parties are invited to submit written comments to FRA. All written communications concerning this petition should identify the appropriate docket number (e.g., Docket Number FRA-2002-15339) and must be submitted in triplicate to the Associate Administrator for Safety, Federal Railroad Administration, 400 7th Street, SW., Washington, DC 20590-0001. Comments received within 30 days of the date of this notice will be considered by FRA before any final action is taken. Although FRA does not anticipate scheduling a public hearing in connection with these proceedings, if any interested party desires an opportunity for oral comment, they should notify FRA in writing before the end of the comment period and specify the basis for their request.

All written communications concerning these proceedings are available for examination during regular business hours (9 a.m.-5 p.m.) at the Central Docket Management Facility, Room PL-401 (Plaza Level), 400 7th Street, SW., Washington, DC 20590. All documents in the public docket are also available for inspection and copying on the Internet at the docket facility's Web site http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) at http://dms.dot.gov.

Issued in Washington, DC on May 24, 2005.
Grady C. Cothen, Jr.,
Deputy Associate Administrator for Safety Standards and Program Development.

[FR Doc. 05-10699 Filed 5-27-05; 8:45 am]

BILLING CODE 4910-06-P